DEPARTMENT OF TRANSPORTATION

Pipeline and Hazardous Materials Safety Administration

[Docket No. PHMSA-2016-0016]

Pipeline Safety: Underground Natural Gas Storage Facility Annual Report

AGENCY: Pipeline and Hazardous Materials Safety Administration (PHMSA), DOT.

ACTION: Notice of OMB approval.

SUMMARY: The Pipeline and Hazardous Materials Safety Administration (PHMSA) Office of Pipeline Safety (OPS) is announcing OMB approval of the annual report for Underground Natural Gas Storage Facilities.

DATES: Operators should submit the first annual report form for the 2017 calendar year by March 15, 2018.

FOR FURTHER INFORMATION CONTACT: Crystal Stewart, Program Analyst, Office of Pipeline Safety Operations Systems Division, at 202-366-1524 or by email at crystal.stewart@dot.gov.

SUPPLEMENTARY INFORMATION: PHMSA regulations at 49 CFR 191.17 require each operator of an underground natural gas storage facility to submit an annual report on DOT PHMSA Form 7100.4-1 by March 15, for the preceding calendar year, except that the first annual report must be submitted by July 18, 2017. PHMSA extended the due date for the submission of the first annual report, as stipulated in PHMSA's posting on its Web page (https://www.phmsa.dot.gov/underground-storage-annual-report-submission-extension). This annual report, originally required by July 18, 2017, would have captured data for the 2016 calendar year. PHMSA is revising the date of the first submission of the annual report. The first annual report now will be due on March 15, 2018, and will collect reported information for the 2017 calendar year.

OPS will post this information and further filing instructions on OPS's Web site at http://www.phmsa.dot.gov/pipeline.

Issued in Washington, DC, on September 26, 2017, under authority delegated in 49 CFR 1.97.
Alan K. Mayberry,
Associate Administrator for Pipeline Safety.

[FR Doc. 2017-21004 Filed 9-29-17; 8:45 am]

BILLING CODE 4910-60-P